DEPARTMENT OF TRANSPORTATION

Federal Railroad Administration

Petition for Waiver of Compliance

In accordance with Title 49 Code of Federal Regulations (CFR), parts 211.9 and 211.41 notice is hereby given that the Federal Railroad Administration (FRA) has received a request for waiver of compliance from certain requirements of Federal railroad safety regulations. The individual petition is described below, including the parties seeking relief, the regulatory provisions involved, the nature of the relief being requested and the petitioner's arguments in favor of relief.

Burlington Northern and Santa Fe Railway Company

Docket Number FRA-2003-14216

The Burlington Northern and Santa Fe Railway Company (BNSF) seeks a waiver of compliance from certain sections of 49 CFR parts 216, Special Notice and Emergency Order Procedures: Railroad Track, Locomotive and Equipment; 217, Railroad Operating Rules; 218, Railroad Operating Practices; 229, Railroad Locomotive Safety Standards; 233, Signal Systems Reporting Requirements; 235, Instructions Governing Applications for Approval of a Discontinuance or Material Modification of a Signal System or Relief from the Requirements of Part 236; 236, Rules, Standards, and Instructions Governing the Installation, Inspection, Maintenance, and Repair of Signal and Train Control Systems, Devices, and Appliances; and 240, Qualification and Certification Of Locomotive Engineers, under § 211.51, Tests, to allow them to develop, implement, and test technology designed to prevent train authority violations, overspeed violations and accidents caused by passing restricted signals and open switches. The program would enable BNSF to demonstrate and validate the technology, referred to as Train Sentinel, before it is implemented on a larger scale.

Petitioner's Justification

The petitioner provided the following justification for relief:

Train Sentinel is a non-vital safety overlay that works in conjunction with existing methods of operation and signal and control systems to protect against the consequences of human error. This approach provides a “safety net” for train operations while retaining the existing systems as a primary means of control. Because these systems continue in operation, a failure or deactivation of the Train Sentinel System has the effect only of suspending the safety enhancements associated with the Train Sentinel System, without compromising the underlying safety provisions of existing systems and operating rules.

The Train Sentinel System safety enhancements are achieved through a communication-based system that enforces movement authority and speed restrictions for Train Sentinel equipped trains. Four segments work together to provide the enforcement: The location segment, the locomotive segment, the dispatcher system segment and the communications segment. The dispatcher segment delivers the enforceable authority and temporary speed limits for each train under Train Sentinel control. This information is delivered through the communications segment to the locomotive segment. Procedures are implemented to ensure the data received is complete and correct. Failsafe design dictates that an undelivered message will stop the train at the end of its active authority. The locomotive segment confirms the locomotive's location and enforces a train's movement and speed limits by monitoring the train's location and speed and applying the brakes to stop the train if necessary to prevent a violation.

The Train Sentinel System will be tested and demonstrated on the BNSF's Wichita Falls subdivision in the State of Texas between Fort Worth, milepost 0 and Valley Junction, milepost 118.4. In addition, the system will be tested and demonstrated on the Brookfield subdivision in the State of Illinois between Galesburg, milepost 168 and West Bushnell, milepost 192.4. Finally, the system will be tested and demonstrated on the Beardstown subdivision in the State of Illinois and the Commonwealth of Kentucky between Bushnell, Illinois, milepost 159.6 and Paducah, Kentucky, milepost 239.0. The combined distance of the test territory is 439.3 miles. The present method of operation on the BNSF is by Track Warrant Control and Centralized Traffic Control. These methods of operation will not be affected during the Train Sentinel test period.

Train Sentinel testing may require temporary changes of a benign nature in operating practices, but only on Train Sentinel equipped trains and only when a test is in progress. Such changes in operating practices will include Train Sentinel initialization procedures, digital transmission and on-board display of text authorities and restrictions, on-board display of signal aspect, on-board display of monitored switches, enforcement limits of authority and speed limits/restrictions through automatic brake applications, and procedures for recovery following an enforcement action.

The waiver is requested for a testing period commencing March 1, 2003, and extending to the conclusion of the test phase. The testing period is not expected to exceed one year and will terminate March 1, 2004 unless BNSF notifies FRA of an earlier termination date.

The following are the specific waiver requests and their justifications. References are to Chapter II, Subtitle B, Title 49 of the Code of Federal Regulations.

Section 216.13 Special Notice for Repairs—Locomotive

Waiver is requested for Train Sentinel locomotives to the extent that non-operation of Train Sentinel equipment installed on board, whether through malfunction or deactivation shall not be construed as an unsafe condition requiring special notice for repairs. Waiver is sought for non-equipped-Train Sentinel-equipped locomotives operating in the Train Sentinel pilot territory to the extent that the absence of Train Sentinel equipment on-board shall not be construed as an unsafe condition requiring special notice for repairs.

Justification: With or without Train Sentinel equipment operating on board the controlling locomotive, a train remains subject to existing signal and control systems and to railroad operating rules. (Train Sentinel is an overlaid system, enhancing current safety without affecting the operation of existing systems.) Train Sentinel tests require flexibility in installing, removing, turning on, and turning off the on-board equipment. The Train Sentinel tests will involve only a small subset of locomotives operating in the pilot territory.

Section 217.9 Program of Operational Tests and Inspections; Recordkeeping

Waiver is requested exempting operation of Train Sentinel equipment and procedures from the requirements for operational tests, inspections, and associated recordkeeping.

Justification: The Train Sentinel pilot is a test program during which procedures for using Train Sentinel equipment and functions will be refined and modified. Until such procedures are defined, they cannot be addressed in the code of operating rules, timetables, and timetable special instructions to which this section applies.

Section 217.11 Program of Instruction on Operating Rules; Recordkeeping; and Electronic Recordkeeping

Waiver is requested exempting operation of Train Sentinel equipment and procedures from the requirements for instruction and associated record keeping.

Justification: The Train Sentinel pilot is a test program during which procedures for using Train Sentinel equipment and functions will be refined and modified. Until such procedures are defined, they cannot be addressed in the code of operating rules.

Part 218 Subpart D: Prohibition Against Tampering With Safety Devices

Waiver is requested exempting on-board Train Sentinel equipment from the requirements of §§ 218.51, 218.53, 218.55, 218.57, 218.59, and 218.61 to the extent that Train Sentinel equipment on board a locomotive shall not be considered a “safety device” subject to the provisions of this subpart at any time during the pilot program.

Justification: The Train Sentinel pilot is a test program. Train Sentinel tests require flexibility in installing, removing, turning on, and turning off the on-board equipment. BNSF requires the flexibility to permanently disable or remove Train Sentinel equipment in the event that a production system is not implemented.

Section 229.135 Event Recorders

Waiver is requested to the extent that Train Sentinel equipment on-board a locomotive shall not be considered an “event recorder” subject to the provisions of this section.

Justification: Train Sentinel equipment by design will operate intermittently during the pilot program. Train Sentinel tests require flexibility in installing, removing, turning on, and turning off the on-board equipment. BNSF requires the flexibility to temporarily or permanently disable on-board Train Sentinel equipment.

Section 233.9 Reports

Waiver is requested exempting Train Sentinel operations in the pilot program from the reporting requirements of this section.

Justification: While a Train Sentinel production system may belong to the category of “other similar appliances, methods, and systems” specified in 233.1, this requirement would impose an unnecessary paperwork burden for a test program.

Section 235.5 Changes Requiring Filing of Application

Waiver is requested exempting the Train Sentinel pilot program from the filing requirements of this section.

Justification: The Train Sentinel pilot is a test program. Train Sentinel tests require flexibility in installing, removing, turning on, and turning off the on-board equipment. BNSF requires the flexibility to permanently disable or remove on-board Train Sentinel equipment in the event the Train Sentinel system is not implemented.

Section 236.4 Interference With Normal Functioning of Device

Waiver is requested to the extent that Train Sentinel equipment shall be excluded from this requirement during the pilot program.

Justification: The Train Sentinel pilot is a test program through which the normal functioning of Train Sentinel will be defined and redefined. Train Sentinel tests require flexibility in installing, removing, turning on, and turning off the on-board equipment. With or without Train Sentinel; equipment on-board the controlling locomotive, the train remains subject to the provisions of the existing signal and control systems and to the BNSF operating rules.

Section 236.5 Design of Control Circuits on Closed Circuit Principle

Waiver is requested exempting Train Sentinel equipment from the closed circuit design requirement.

Justification: Train Sentinel is composed of solid-state components that are software driven. Neither the hardware nor software can be designed technically to meet the provisions of this section.

Section 236.11 Adjustment, Repair, or Replacement of Component

Waiver is requested exempting Train Sentinel components on-board a locomotive from the requirements of this section.

Justification: Train Sentinel tests require flexibility in installing, removing, modifying, turning on and turning off equipment. Failure of a component during the test phase will not jeopardize the safety of train operations. With or without Train Sentinel equipment operating on-board the controlling locomotive, the train remains subject to the provisions of the rules governing the existing method of operation.

Section 236.15 Timetable Instructions

Waiver is requested exempting the Train Sentinel pilot territory from the timetable designation requirement of this section.

Justification: Since the pilot program will consist of tests and demonstrations, identifying the test territory in the timetable as “Train Sentinel” (or some similar label) would be both premature and an unnecessary paperwork burden.

Section 236.23 Aspects and Indications

Waiver is requested to the extent that the Train Sentinel display on-board an equipped locomotive shall not be construed to represent or correspond to signal aspects or indications subject to the requirements of this section.

Justification: The Train Sentinel design excludes any visual display of signal aspects or indications. Train Sentinel enforceable authorities which may or may not derive from signal indications are on-board. Text authorities such as name of signal or track bulletins are displayed to the train crew. Information on the Train Sentinel display will correspond with authority conveyed through wayside signals.

Section 236.76 Tagging of Wires and Interference of Wires or Tags With Signal Apparatus

Waiver is requested exempting Train Sentinel equipment from the wire-tagging requirement.

Justification: Train Sentinel hardware consists of computers, computer peripherals, and communication devices. While the inapplicability of this section to circuit boards, connectors, and cables would appear obvious, waiver is sought for clarification.

Section 236.101 Purpose of Inspection and Tests; Removal From Service of Relay or Device Failing To Meet Test Requirements

Waiver is requested exempting Train Sentinel equipment from the requirement for removal of failed equipment from service.

Justification: Train Sentinel requires flexibility in installing, removing, turning on, and turning off the equipment. With or without Train Sentinel equipment operating on-board, a train remains subject to the provisions of the rules governing the existing methods of operation.

Section 236.107 Ground Tests

Waiver is requested exempting Train Sentinel equipment from the requirement for ground testing during the test phase.

Justification: Train Sentinel hardware consists of computers, computer peripherals, and communication devices. Ground tests would serve no purpose in ensuring safety and could be damaging to the equipment.

Section 236.109 Time Releases, Timing Relays and Timing Devices

Waiver is requested exempting Train Sentinel equipment from the testing requirement of this section during the test phase.

Justification: The timing devices in Train Sentinel equipment are software-driven, have no moving parts, and are far more reliable than the devices for which this regulation was promulgated to address.

Section 236.110 Results of Tests

Waiver is requested exempting Train Sentinel tests from the record keeping requirements of this section.

Justification: The Train Sentinel pilot is a test program during which the types of tests needed to ensure appropriate levels of maintenance will be defined.

Section 236.501 Forestalling Device and Speed Control

Waiver is requested exempting Train Sentinel from the requirement for medium-speed restriction.

Justification: Train Sentinel will not be connected to a signal system, but will receive input from the signal system and operate to perform its intended function in the event of failure of the engineer to obey a restrictive condition displayed in the cab. Train Sentinel will enforce speed restrictions reflected in the track database or issued through the dispatcher system.

Section 236.504 Operation Interconnected With Automatic Block-Signal System

Waiver is requested exempting Train Sentinel from the requirement of interconnection with an automatic block-signal system.

Justification: The Train Sentinel system will have no connection to the signal system; however Train Sentinel will receive input from the signal system and operate to perform its intended function in the event of failure of the engineer to obey a restrictive condition displayed in the cab.

Section 236.511 Cab Signals Controlled in Accordance With Block Conditions Stopping Distance in Advance

Waiver is requested exempting the Train Sentinel onboard display from the cab-signal requirements in this section.

Justification: Train Sentinel is not an automatic cab signal system and will have no connection to a signal system but will receive input from the signal system and display the signal name that forms the basis for limits of authority that will be depicted on the display.

Section 236.514 Interconnection of Cab Signal System With Roadway Signal System

Waiver is requested exempting Train Sentinel from the requirement of interconnection with a roadway signal system.

Justification: The Train Sentinel system is not a cab signal system and will have no connection with the signal system. However, Train Sentinel will receive input from the signal system and display the signal name that forms the basis for limits of authority.

Section 236.515 Visibility of Cab Signals

Waiver is requested exempting the Train Sentinel display from the visibility requirement of this section during the test phase.

Justification: Train Sentinel is not a cab signal system. However, Train Sentinel receives input from the signal system and displays the signal name governing the movement. The visibility requirements of this rule will be met in the Train Sentinel production system.

Section 236.534 Entrance to Equipped Territory; Requirements

Waiver is requested exempting Train Sentinel from the requirements of this section during the test phase.

Justification: Train Sentinel tests require flexibility in installing, removing, turning on, and turning off Train Sentinel equipment.

Section 236.552 Insulation Resistance; Requirement

Waiver is requested exempting Train Sentinel equipment from the insulation resistance requirement of this section.

Justification: Train Sentinel equipment consists of computers, computer peripherals, and communications equipment. Insulation resistance tests could be damaging to such components.

Section 236.553 Seal, Where Required

Waiver is requested exempting Train Sentinel from the seal requirement of this section.

Justification: Train Sentinel tests require flexibility in installing, removing, turning on, and turning off Train Sentinel equipment.

Section 236.566 Locomotive of Each Train Operating in Train Stop, Train Control or Cab Signal Territory; Equipped

Waiver is requested to the extent that the equipment requirements in this section shall not apply to Train Sentinel during the test phase.

Justification: A small subset of locomotives operating in the test territory will be Train Sentinel equipped; the majority of trains will not be equipped. Train Sentinel tests require flexibility in installing, removing, turning on and turning off the on-board equipment. In any case, all Train Sentinel tests will be conducted under the provisions of the rules governing the existing methods of operation.

Section 236.567 Restrictions Imposed When Device Fails and/or Is Cut Out Enroute

Waiver is requested exempting Train Sentinel tests from the restrictions associated with device failure or cutout.

Justification: Train Sentinel tests require flexibility in installing, removing, turning on and turning off the onboard equipment. All Train Sentinel tests will be conducted under the provisions of the rules governing the existing methods of operation. A failure or deactivation of Train Sentinel equipment will not jeopardize safety of train operations.

Section 236.586 Daily or After Trip Test

Waiver is requested exempting the Train Sentinel from the requirements of this section during the test phase.

Justification: During the Train Sentinel test phase, the requirements for a daily or after trip test, if necessary, will be defined. An objective is to perform this test without human intervention.

Section 236.587 Departure Test

Waiver is requested exempting the Train Sentinel from the requirements of this section during the test phase.

Justification: During the Train Sentinel test phase, the requirements for a departure test will be defined. An objective is to perform this test without human intervention.

Section 236.588 Periodic Test

Waiver is requested exempting Train Sentinel from the requirements of this section during the test phase.

Justification: During the Train Sentinel test phase, the requirements for a departure test will be defined.

Section 236.703 Aspect

Clarification is requested exempting the Train Sentinel display from this definition.

Justification: Train Sentinel is not an automatic cab signal system.

Section 236.805 Signal, Cab

Clarification is requested exempting the Train Sentinel display from this definition.

Justification: Train Sentinel is not an automatic cab signal system.

Section 240.127 Criteria for Examining Skill Performance

Waiver is requested exempting Train Sentinel from the testing requirements of this section during the test phase.

Justification: Criteria and procedures for Train Sentinel performance evaluation do not yet exist; they will be identified and defined during the Train Sentinel test phase.

Section 240.129 Criteria for Monitoring Operational Performance of Certified Engineers

Waiver is requested exempting Train Sentinel from the performance monitoring procedures during the Train Sentinel test phase.

Justification: Criteria and procedures for Train Sentinel performance evaluation do not yet exist; they will be identified and defined during the Train Sentinel test phase.

It is acknowledged for clarification that Train Sentinel, when fully operative during the test phase, will comply with the following regulations:

Section 236.8 Operating Characteristics of Electromagnetic, Electronic, or Electrical Apparatus

Train Sentinel computing equipment will comply with this regulation.

Section 236.501 Forestalling Device and Speed Control

Train Sentinel is designed to enforce maximum authorized speeds, speed restrictions, slow speed and absolute stop. Train Sentinel will comply with § 236.501 except for paragraph (b)(2).

Section 236.502 Automatic Brake Application, Initiation by Restrictive Block Conditions Stopping Distance in Advance

Train Sentinel is designed to initiate an automatic brake application stopping distance in advance of the end of limits of authority, or the beginning of each speed restriction in the route.

Section 236.503 Automatic Brake Application; Initiation When Predetermined Rate of Speed Exceeded

Train Sentinel will comply with this regulation.

Section 236.505 Proper Operative Relation Between Parts Along Roadway and Parts on Locomotive

Train Sentinel will function as intended under all conditions of speed, weather, oscillation and shock. Train Sentinel will comply with this regulation.

Section 236.506 Release of Brakes After Automatic Application

After a Train Sentinel initiated brake application, brakes cannot be released until the train is stopped.

Section 236.507 Brake Application; Full Service

Train Sentinel will comply with this regulation.

Section 236.508 Interference With Application of Brakes by Means of Brake Valve

Train Sentinel equipment will not interfere with or impair the efficiency of the automatic or independent brake valves.

Section 236.509 Two or More Locomotives Coupled

Train Sentinel will be made operative only on the controlling locomotive; however, Train Sentinel tests that do not affect train operations may occur on the trailing locomotives.

Section 236.513 Audible Indicator

The audible indicator for Train Sentinel will have a distinctive sound and be clearly audible under all operating conditions.

Section 236.516 Power Supply

Train Sentinel equipment will have its own isolated power supply.

Section 236.565 Provision Made for Preventing Operation of Pneumatic Brake-Applying Apparatus by Double-Heading Cock; Requirement

Operation of the double-heading cock (cutoff pilot valve) will not cut out Train Sentinel before the automatic brake is cut out.

Section 236.590 Pneumatic Apparatus

Pneumatic apparatus will be inspected and cleaned as required.

Part 236 Subpart G Definitions

Train Sentinel will comply with the definitions as applicable, except §§ 236.703 and 236.805.

Proceedings

Interested parties are invited to participate in these proceedings by submitting written views, data or comments. FRA does not anticipate scheduling a public hearing in connection with these proceedings since the facts do not appear to warrant a hearing. Any interested party who desires an opportunity for oral comment should notify FRA in writing before the end of the comment period, specifying the basis for the request.

All communications concerning these proceedings should identify the appropriate docket number (e.g., Waiver Petition Docket Number FRA-2002-12113) and must be submitted to the Docket Clerk, DOT Central Docket Management Facility, Room PL-401 (Plaza Level), 400 Seventh Street, SW.,Washington, DC 20590-0001. Communications received within 30 days of the date of this notice will be considered by FRA before final action is taken. Comments received after that date will be considered as far as practicable. All written communications concerning these proceedings are available for examination during regular business hours (9 a.m.-5 p.m.) at the above facility. All documents in the public docket are also available for inspection and copying on the internet at the docket facility's Web site at http://dms.dot.gov.

Issued in Washington, D.C. on January 23, 2003.
Grady C. Cothen, Jr.,
Deputy Associate Administrator for Safety Standards and Program Development.

[FR Doc. 03-2054 Filed 1-28-03; 8:45 am]

BILLING CODE 4910-06-P